DEPARTMENT OF HEALTH AND HUMAN SERVICES

National Institutes of Health

National Institute on Aging; Amended Notice of Meeting

Notice is hereby given of a change in the meeting of the National Institute on Aging Special Emphasis Panel, June 20, 2024, 10:00 a.m. to June 20, 2024, 05:30 p.m., National Institute on Aging, Gateway Building, 7201 Wisconsin Avenue, Bethesda, MD 20892 which was published in the Federal Register on May 24, 2024, 89 FR 45908.

The meeting notice is amended to change the start date of the meeting from 6/20/2024 to 6/28/2024. The meeting is closed to the public.

Dated: June 5, 2024.
Miguelina Perez,
Program Analyst, Office of Federal Advisory Committee Policy.

[FR Doc. 2024-12649 Filed 6-7-24; 8:45 am]

BILLING CODE 4140-01-P